DEPARTMENT OF HEALTH AND HUMAN SERVICES

Administration for Children and Families

Proposed Information Collection Activity: Comment Request

Title: Personal Responsibility Education Program (PREP) Multi Component Evaluation—Design Survey.

OMB No.: New Collection.

Description: The Family and Youth Services Bureau (HHS/ACF/ACYF/FYSB) and the Office of Planning, Research, and Evaluation (HHS/ACF/OPRE) in the Administration for Children and Families (ACF) propose a data collection activity as part of the Personal Responsibility Education Program (PREP) Multi Component Evaluation.

In addition to other activities, the PREP Evaluation will document the design of the PREP State grant programs via data gathered from States and selected sub-awardees funded by PREP. The findings will be of interest to the general public, federal and state policy-makers, PREP sub-awardees, community-based organizations, and other organizations interested in teen pregnancy prevention.

The proposed activity involves the collection of information through telephone conversations or in-person interviews held with administrators and program staff at the State and sub awardee level. The data collection instrument will focus on information related to program context, administration, and design. This includes, but is not limited to: Program goals and strategy/approach, program setting, population characteristics, state-level requirements and processes, program monitoring, and training and technical assistance.

Respondents: State Level Coordinators; Program Directors; Program Staff; General Staff; Schools and Organizations; and Community-Based Organizations.

Annual Burden Estimates Design Survey
Instrument | Annual number of respondents | Number of responses per respondent | Average burden hours per response | Total burden hours
Discussion Guide for use with State Level Coordinators and State-Level Staff | 120 | 1 | 1 | 120
Discussion Guide for use with Program Staff; Schools and Organizations; and Community-Based Organizations | 120 | 1 | 1 | 120

Estimated Annual Burden Sub-total for Field Clearance: 240.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 23, 2011.
Seth F. Chamberlain,
Reports Clearance Officer.

[FR Doc. 2011-7340 Filed 3-29-11; 8:45 am]

BILLING CODE 4184-37-M